OFFICE OF PERSONNEL MANAGEMENT

5 CFR Parts 330, 332, 351, 353

RIN 3206-AJ32

Career Transition Assistance for Surplus and Displaced Federal Employees

AGENCY: Office of Personnel Management.

ACTION: Interim regulation with request for comment.

SUMMARY: The Office of Personnel Management is issuing interim regulations making the current career transition assistance programs permanent to help Federal employees displaced from their jobs by downsizing. These interim regulations remove the September 30, 2001 sunset date and reporting requirements and eliminate the Interagency Placement Program.

DATES: This interim regulation is effective on June 4, 2001. We will consider written comments received by August 3, 2001.

ADDRESSES: Send or deliver written comments to: Richard A. Whitford, Acting Associate Director for Employment, Office of Personnel Management; Suite 6500, 1900 E Street NW., Washington, DC 20415-9000.

FOR FURTHER INFORMATION, CONTACT: Jacqueline Yeatman on (202) 606-0960, FAX (202) 606-2329, TDD (202) 606-0023 or by email at: jryeatma@opm.gov.

SUPPLEMENTARY INFORMATION: It has long been the Federal Government's policy to help displaced workers affected by downsizing and restructuring find other employment, either within the Government or the private sector. The Office of Personnel Management (OPM) has provided placement priority for employees affected by downsizing since at least 1970, by regulation. Before 1996, this consisted of the Displaced Employee Program/Interagency Placement Assistance Program (DEP/IPAP), later followed by the Interagency Placement Program (IPP). All of these programs operated under a passive model with centralized inventories, or “lists” of separated Federal employees. Agencies received these lists only when they planned to fill a vacancy through a competitive appointment register or certificate. Placement rates for these programs were relatively low for several reasons. In many cases, agencies filled jobs through the transfer or reinstatement of current or former Federal employees—and these actions did not generate IPP referral lists. In other cases, candidates on the placement list were unreachable, unavailable, or uninterested by the time their name was referred for a job.

In 1995, OPM published regulations temporarily suspending the IPP and establishing the Career Transition Assistance Plan (CTAP) and Interagency Career Transition Assistance Plan (ICTAP). The regulations were developed in cooperation with representatives from agencies and employee unions. These new programs were based on the “employee empowerment” model—an entirely different premise from previous placement programs. The idea was relatively simple—affected employees get the resources and information they need, coupled with meaningful hiring priority for Federal jobs, to help them take charge of their job search as early and effectively as possible. Placement data suggest that when employees take an active role in their own transition, faster and better placements result. The designers of these programs also believed that giving only well-qualified displaced employees hiring priority would improve the quality of placements made and reduce the “stigma” sometimes associated with selection priority. Because this was a new and untested approach to the placement of former Federal employees, the regulations included reporting requirements and a sunset date. This gave OPM the opportunity to evaluate these programs and determine their usefulness. On July 27, 1999, OPM published regulations extending the sunset date through September 30, 2001.

Each year, OPM gathers information from Executive Branch agencies on their use of CTAP and ICTAP, as well as data on involuntary separations and hiring. We can assess the effectiveness of the existing placement programs using this information. The data show that agencies hired 1,182 displaced employees through ICTAP in the past four years. This represents a placement rate that is significantly higher than under the IPP. The CTAP and ICTAP programs combined have placed nearly 4,000 surplus or displaced employees since 1996. When the results for the Department of Defense Priority Placement Program (PPP) and agency Reemployment Priority Lists (RPLs) are added, the overall placement rate approaches 50% of those eligible. It is true that, over the last four years, the number of placements through CTAP and ICTAP has decreased—but this is not surprising, since fewer employees have become surplus or displaced and the number of involuntary separations has dropped off as well. Significantly, the placement rate (the proportion of those placed relative to the number of RIF separations) has stayed about the same. This tells us that our existing placement programs are effective tools whether downsizing activity is widespread or limited.

If we allow the current placement programs to expire in 2001, the Government's primary placement tool will once again be the IPP. Based on the lower placement rate of the IPP, and the long-standing dissatisfaction of agencies with its operation, we concluded that this is not a viable option. During the IPP era, agencies used centralized registers for most competitive Federal hiring; today's environment of decentralized and delegated job-by-job examining does not lend itself to a centralized, placement-list approach. The IPP added more time to the recruitment process—time agencies cannot afford to lose in today's fast-moving and highly competitive job market. In addition, the IPP sets significantly lower standards for qualification and demonstrated performance, making it less likely to result in good placements. In contrast, CTAP and ICTAP give the employee more control over the process, are decentralized and faster, and set higher standards for “matches.” OPM and the Human Resources Management Council's Executive Committee (composed of human resource directors from cabinet departments, large agencies, and representatives from small agencies) concluded that returning to the IPP would be a step backward for the Federal Government's placement process.

While ICTAP was designed primarily to help employees affected by reductions in force, it is a crucial program for other reasons. The regulations currently provide two years of ICTAP selection priority to veterans in certain restricted positions affected by competitive outsourcing under OMB Circular A-76 procedures (see 5 CFR part 330, subpart D). Former employees trying to return to work after long-term recovery from compensable injuries, former disability annuitants who have recovered, and disabled National Guard Technicians have been using ICTAP selection priority to return to work. In addition, placement programs for some District of Columbia Department of Corrections employees (5 CFR part 330, subpart K) and employees affected by the turnover of the Panama Canal (5 CFR part 330, subpart L) were patterned after ICTAP and use many of the same regulatory provisions. If we let the current programs sunset, it would affect all of these former employees.

CTAP and ICTAP provide a continual “safety net” that is always available when needed, but does not significantly hamper other personnel processes when not needed. Given the continuing need for a placement safety net for employees, we believe it makes sense to remove the sunset date from these regulatory provisions. Therefore, this regulation, when finalized, will permanently eliminate the IPP and replace it with the CTAP and ICTAP. In a related change, we are eliminating the agency reporting requirements under CTAP and ICTAP to reduce the administrative burden on agencies and because these reports, originally designed to monitor agency progress when these programs were initially established, are no longer necessary. We are also deleting references to the IPP in parts 332, 351 and 353 and replacing them with ICTAP where appropriate.

We are issuing this regulation as interim for several reasons. Because these placement programs would otherwise expire in September 2001, displaced employees need to know now whether they will get the one year of eligibility to which they would normally be entitled. Although current downsizing activity has tapered off significantly since the peak of a few years ago, agencies such as the Department of Defense and others are still implementing base closures, restructuring, and consolidations. In addition, the potential effects of privatization or outsourcing initiatives make these placement programs critical for those employees wishing to pursue other Federal employment options rather than accepting private employment. Finally, there are employees recovering from disability or injury who may need to use this program for help in getting back to work. In summary, we want to ensure that these important and effective placement tools for Federal employees remain in place. This will help the Federal Government maintain its image as an employer who values employees and treats them with concern even when restructuring is necessary.

While we are not proposing any changes to the way these programs will operate at this time, we believe there is room for improvement. We plan to work with Federal agencies, employees, and other stakeholders on ways to improve and streamline the entire portfolio of placement programs for displaced employees. Any changes resulting from this effort would be published as proposed regulations, with request for comment, to allow for maximum dialogue on these issues.

Regulatory Flexibility Act

I certify that this regulation will not have a significant economic impact on a substantial number of small entities because it affects only certain Government employees.

Executive Order 12866, Regulatory Review

This rule has been reviewed by the Office of Management and Budget in accordance with Executive Order 12866.

List of Subjects in 5 CFR Part 330

Armed forces reserves, Government employees.

U.S. Office of Personnel Management.
Steven R. Cohen,
Acting Director.

Accordingly, OPM is amending parts 330, 332, 351 and 353 as follows:

PART 330—RECRUITMENT, SELECTION, AND PLACEMENT (GENERAL)

1. The authority citation for part 330 is revised to read as follows:

Authority: 5 U.S.C. 1302, 3301, 3302; E.O. 10577, 3 CFR 1954-58 Comp., p. 218; § 330.102 also issued under 5 U.S.C. 3327; subpart B also issued under 5 U.S.C. 3315 and 8151; § 330.401 also issued under 5 U.S.C. 3310; subpart G also issued under 5 U.S.C. 8337(h) and 8457(b); subpart K also issued under sec. 11203 of Pub. Law 105-33 (111 Stat. 738) and Pub. Law 105-274 (112 Stat. 2424); subpart L also issued under sec. 1232 of Pub. L. 96-70, 93 Stat. 452.

Subpart C—Reserved

§§ 330.301—330.307 [Reserved]

2. In part 330, subpart C consisting of §§ 330.301 through 330.307, is removed and reserved.

Subpart F—Agency Career Transition Assistance Plans (CTAP) for Local Surplus and Displaced Employees

§§ 330.603 and 330.610 [Removed and reserved]

3. In Subpart F, §§ 330.603 and 330.610 are removed and reserved.

Subpart G—Interagency Career Transition Assistance Plan for Displaced Employees

§§ 330.702 and 330.710 [Removed and reserved]

4. In Subpart G, §§ 330.702 and 330.710 are removed and reserved.

PART 332—RECRUITMENT AND SELECTION THROUGH COMPETITIVE EXAMINATION

5. The authority citation for part 332 continues to read as follows:

Authority: 5. U.S.C. 1302, 3301, 3302; E.O. 10577, 3 CFR, 1954-1958 Comp., p. 218.

§ 332.314 [Removed and reserved]

6. Section 332.314 is removed and reserved.

PART 351—REDUCTION IN FORCE

7. The authority citation for part 351 continues to read as follows:

Authority: 5 U.S.C. 1302, 3502, 3503; sec. 351.801 also issued under E.O. 12828, 58 FR 2965.

8. In § 351.807, paragraph (f) is revised to read as follows:

§ 351.807 Certification of Expected Separation.

* * * * *

(f) An agency may also enroll eligible employees on the agency's Reemployment Priority List up to 6 months in advance of a reduction in force. For requirements and criteria, see subpart B of part 330 of this chapter.

PART 353—RESTORATION TO DUTY FROM UNIFORMED SERVICE OR COMPENSABLE INJURY

9. The authority citation for part 353 continues to read as follows:

Authority: 38 U.S.C. 4301 et seq., and 5 U.S.C. 8151.

10. In § 353.110, paragraph (b) is revised to read as follows:

§ 353.110 OPM Placement Assistance.

* * * * *

(b) Employee returning from compensable injury. OPM will provide placement assistance to an employee with restoration rights in the executive, legislative, or judicial branches who cannot be placed in his or her former agency and who either has competitive status or is eligible to acquire it under 5 U.S.C. 3304(C). If the employee's agency is abolished and its functions are not transferred, or it is not possible for the employee to be restored in his or her former agency, the employee is eligible for placement assistance under the Interagency Career Transition Assistance Plan (ICTAP) under part 330, subpart G, of this chapter. This paragraph does not apply to an employee serving under a temporary appointment pending establishment of a register (TAPER).

[FR Doc. 01-13917 Filed 6-1-01; 8:45 am]

BILLING CODE 6325-38-P